FEDERAL COMMUNICATIONS COMMISSION

Information Collection Being Reviewed by the Federal Communications Commission

AGENCY: Federal Communications Commission.

ACTION: Notice and Request for comments.

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning:

(a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 20, 2011. If you anticipate that you will be submitting PRA comments, but find it difficult to do so within the period of time allowed by this notice, you should advise the FCC contact listed below as soon as possible.

ADDRESSES: Direct all PRA comments to the Federal Communications Commission. To submit your PRA comments by e-mail send them to: PRA@fcc.gov.

FOR FURTHER INFORMATION CONTACT: For additional information, contact Judith B. Herman at 202-418-0214 or via the Internet at Judith-b.Herman@fcc.gov.

SUPPLEMENTARY INFORMATION:

OMB Control Number: 3060-0804.

Title: Universal Service—Rural Health Care Program/Rural Health Care Pilot Program.

Form Nos.: FCC Forms 465, 466, 466-A and 467.

Type of Review: Revision of a currently approved collection.

Respondents: Business or other for-profit, not-for-profit institutions, and state, local or tribal government.

Number of Respondents: 6,500 respondents; 48,895 responses.

Estimated Time per Response: .10 hours to 20 hours.

Frequency of Response: On occasion, one time, quarterly, monthly, and annual reporting requirements, recordkeeping requirement and third party disclosure requirements.

Obligation to Respond: Required to obtain or retain benefits. Statutory authority for this information collection is contained in 47 U.S.C. sections 151-154(i), 154(j), 201-205, 214, 254, and 403.

Total Annual Burden: 57,796 hours.

Total Annual Cost: N/A.

Privacy Act Impact Assessment: N/A.

Nature and Extent of Confidentiality: The Commission is not requesting that the respondents submit confidential information to the FCC. However respondents may request materials or information submitted to the Commission be withheld from public inspection under 47 CFR 0.459 of the Commission's rules.

Needs and Uses: The Federal Communications Commission (hereinafter referred to as the Commission or FCC) seeks Office of Management and Budget (OMB) approval of a revision (change in reporting, recordkeeping, and/or third party disclosure requirements) of this information collection (IC) previously approved by OMB under this OMB Control Number 3060-0804. The purpose of the revision is to seek approval for eight templates, samples, and spreadsheets provided to program participants to facilitate the reporting record keeping and/or third party disclosure requirements under this collection. We have attached the eight items to this statement. These attachments include the following: (1) Attachment 1—Community Mental Health Center Verification Template; (2) Attachment 2—Invoice Template; (3) Attachment 3-FCC Form 465 Attachment Spreadsheet; (4) Attachment 4—Letter of Agency Template; (5) Attachment 5—Transfer of Letter of Agency; (6) Attachment 6—Network Cost Worksheet; (7) Attachment 7—Certification of Program Participant Template; and (8) Attachment 8—Vendor Certification Template.

In the Telecommunications Act of 1996 (1996 Act), Congress specifically sought to provide rural health care providers with “an affordable rate for the services necessary for the provision of telemedicine and instruction relating to such services.” In 1997, the Commission implemented this statutory directive by adopting the current Rural Health Care support mechanism, which is administered by the Universal Service Administrative Company (USAC). Since 1997, the Commission has made various modifications to the rural health care support mechanism. The Commission also revised its rules to expand funding for mobile rural health care services by subsidizing the difference between the rate for satellite service and the rate for an urban wireline service with a similar bandwidth. In addition, the Commission improved its administrative process by establishing a fixed deadline for applications for support. On reconsideration, the Commission permitted Rural health care providers in states that are entirely rural to receive support for advanced telecommunications and information services.

All RHC providers applying for discounts on eligible telecommunications and information services must file FCC Forms 465, 466 and/or 466-A, and 467. These forms and instructions were revised as a result of the Rural Health Care Second Report and Order, which required rural health care providers seeking discounts for mobile telecommunications services to submit various type(s) of information as detailed below (paragraphs A.1.(o). through A.1.(u). The forms were further modified in Month, 2009 in order to update the funding years and other minor administrative changes.

Despite the changes, the rural health care support mechanism had not fully achieved the benefits intended by the statute and the Commission. Generally, less than 10 percent of authorized funds were distributed each year.

In response to the underutilization of the rural health care support mechanism, the Commission released the 2006 Pilot Program Order, which established a Pilot Program to assist public and non-profit health care providers build state and region-wide broadband networks dedicated to the provision of health care services and connect those networks to a dedicated nationwide backbone. The construction of such networks will bring the benefits of innovative telehealth, and particularly, telemedicine services to those areas of the country where the need for those benefits is most acute. By connecting to a dedicated national backbone, health care providers at the state and local levels will have the opportunity to benefit from advanced applications in continuing education and research. In addition, a ubiquitous nationwide broadband network dedicated to health care will enhance the health care community's ability to provide a rapid and coordinated response in the event of a public health crisis.

Participants in the Pilot Program are eligible to receive funding for up to 85 percent of the costs associated with: (1) The construction of a state or regional broadband network and the advanced telecommunications and information services provided over that network; (2) connecting nationwide backbones, Internet2 or National LambdaRail; and (3) connecting to the public Internet.

The Pilot Program lays the foundation for a future rulemaking proceeding that will explore permanent rules to enhance access to advanced services for public and non-profit health care providers. In particular, one of the goals of the Pilot Program is to provide the Commission with useful information as to the feasibility of revising the Commission's current rural health care mechanism rules in a manner that best achieves the objectives set forth by Congress. If successful, increasing broadband connectivity among health care providers at the national, state and local levels would also provide vital links for disaster preparedness and emergency response and would likely facilitate the President's goal of implementing electronic medical records nationwide.

In response to the Pilot Program, the Commission received 81 applications representing approximately 6,800 health care facilities from 43 states and three United States territories. In the Pilot Program Selection Order, the Commission selected 69 of the applicants that demonstrated the overall qualification consistent with the goals of the Pilot Program. As a result of the merger of certain projects, there are currently 62 participants in the Pilot Program. To minimize the burden on Pilot Program participants and to streamline the process, the Commission requires Pilot Program participants to follow the normal procedures and currently approved information collection requirements for participants in the existing rural health care support mechanism program. In the 2011 Pilot Program Extension Order, on delegated authority, the Wireline Competition Bureau (Bureau) extended by one year, to June 30, 2012, the deadline for participants in the Pilot Program to choose a vendor and request funding commitments from USAC. The Bureau also extended by one year the invoice deadline date for Pilot Program participants.

Under the current programs, to obtain discounted telecommunications services, entities seeking funding must file FCC Forms 465, 466 and/or 466-A, and 467. First, eligible entities file FCC Form 465 with USAC to make a bona fide request for supported services. Next, after a 28-day waiting period, an entity seeking funding submits FCC Form 466 and/or 466-A to indicate the type(s) and cost(s) of services ordered, information about the service provider, and the terms of the service agreement. Eligible entities must also certify on the FCC Forms 466 and 466-A that the entity has selected the most cost-effective method of providing the selected service(s). The final form eligible entities submit is FCC Form 467, which is used by the entity to notify USAC that the service provider has begun providing supported services.

Federal Communications Commission.
Marlene H. Dortch,
Secretary, Office of the Secretary, Office of Managing Director.

[FR Doc. 2011-18490 Filed 7-21-11; 8:45 am]

BILLING CODE 6712-01-P